FEDERAL COMMUNICATIONS COMMISSION

47 CFR Part 73

[DA 00-1770; MM Docket No. 98-97; RM-9287, RM-9609]

Radio Broadcasting Services; Hudson and Ten Sleep, WY

AGENCY: Federal Communications Commission.

ACTION: Final rule.

SUMMARY: The Commission, at the request of Windy Valley Broadcasting, allots Channel 275C to Hudson, Wyoming, as the community's first local aural service and, at the request of Mount Rushmore Broadcasting, Inc., allots Channel 286C3 to Ten Sleep, Wyoming, as the community's first local aural service. See 63 FR 34620 (June 25, 1998).

Channel 275C can be allotted at Hudson in compliance with the Commission's minimum distance separation requirements, with respect to domestic allotments, with a site restriction of 14.8 kilometers (9.2 miles) at coordinates 42-49-28 and 108-26-21. Channel 286A can be allotted at Hudson at coordinates 42-54-24 and 108-35-00 and Channel 286C3 can be allotted at Ten Sleep at coordinates 44-02-16 and 107-27-00 in compliance with the Commission's minimum distance separation requirements, with respect to domestic allotments without a site restriction.

Filing windows for Channels 275C and 286A at Hudson and 286C3 at Ten Sleep will not be opened at this time. Instead, the issue of opening a filing window for each channel will be addressed by the Commission in a subsequent Order.

DATES: Effective September 18, 2000.

ADDRESSES: Federal Communications Commission, Washington, D.C. 20554.

FOR FURTHER INFORMATION CONTACT: Victoria M. McCauley, Mass Media Bureau, (202) 418-2180.

SUPPLEMENTARY INFORMATION: This is a synopsis of the Commission's Report and Order, MM Docket No. 98-97, adopted July 26, 2000, and released August 4, 2000. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Wyoming, is amended by adding Hudson, Channel 275C and Channel 286A, and Ten Sleep, Channel 286C3.

Federal Communications Commission.
John A. Karousos,
Chief, Allocations Branch, Policy and Rules Division, Mass Media Bureau.

[FR Doc. 00-21402 Filed 8-22-00; 8:45 am]

BILLING CODE 6712-01-P